ENVIRONMENTAL PROTECTION AGENCY

40 CFR Part 52

[EPA-R01-OAR-2014-0498; A-1-FRL-9927-51-Region 1]

Approval and Promulgation of Air Quality Implementation Plans; Connecticut; Approval of NOX Emission Offset Credits as Single Source SIP Revisions

AGENCY: Environmental Protection Agency (EPA).

ACTION: Proposed rule.

SUMMARY: The Environmental Protection Agency (EPA) is proposing to approve a State Implementation Plan (SIP) revision submitted by the State of Connecticut. The revision consists of amendments to two existing Trading and Agreement Orders for new source review nitrogen oxides (NOX) emission offsets at PSEG Power Connecticut's facility in Bridgeport, Connecticut. This action is being taken in accordance with the Clean Air Act.

DATES: Written comments must be received on or before September 2, 2015.

ADDRESSES: Submit your comments, identified by Docket ID No. EPA-R01-OAR-2014-0498 by one of the following methods:

1. www.regulations.gov: Follow the on-line instructions for submitting comments.

2. Email: dahl.donald@epa.gov

3. Fax: (617) 918-0657

4. Mail: “Docket Identification Number EPA-R01-OAR-2014-0498”, Donald Dahl, U.S. Environmental Protection Agency, EPA New England Regional Office, Office of Ecosystem Protection, Air Permits, Toxics, and Indoor Programs Unit, 5 Post Office Square—Suite 100, (Mail code OEP05-2), Boston, MA 02109-3912.

5. Hand Delivery or Courier. Deliver your comments to: Donald Dahl, Air Permits, Toxics, and Indoor Programs Unit, Office of Ecosystem Protection, U.S. Environmental Protection Agency, EPA New England Regional Office, 5 Post Office Square, 5th floor, (OEP05-2), Boston, MA 02109-3912. Such deliveries are only accepted during the Regional Office's normal hours of operation. The Regional Office's official hours of business are Monday through Friday, 8:30 to 4:30 excluding legal holidays.

Please see the direct final rule which is located in the Rules and Regulations section of this Federal Register for detailed instructions on how to submit comments.

FOR FURTHER INFORMATION CONTACT: Donald Dahl, Air Permits, Toxics, and Indoor Programs Unit, Office of Ecosystem Protection, U.S. Environmental Protection Agency, EPA New England Regional Office, 5 Post Office Square, Suite 100, (OEP05-2), Boston, MA 02109-3912, phone number (617) 918-1657, fax number (617) 918-0657, email Dahl.Donald@epa.gov.

SUPPLEMENTARY INFORMATION: In the Rules and Regulations section of this Federal Register, EPA is approving the State's SIP submittal as a direct final rule without prior proposal because the Agency views this as a noncontroversial submittal and anticipates no adverse comments. A detailed rationale for the approval is set forth in the direct final rule. If no adverse comments are received in response to this action, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of the direct final rule and if that provision may be severed from the remainder of the rule, EPA may adopt as final those provisions of the rule that are not the subject of an adverse comment.

For additional information, see the direct final rule which is located in the Rules and Regulations section of this Federal Register.

Dated: April 29, 2015.
H. Curtis Spalding,
Regional Administrator, EPA New England.

[FR Doc. 2015-18871 Filed 7-31-15; 8:45 am]

BILLING CODE 6560-50-P